DEPARTMENT OF HEALTH AND HUMAN SERVICES

Centers for Disease Control and Prevention

[60Day-11-11CC]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Carol E. Walker, CDC Acting Reports Clearance Officer, 1600 Clifton Road, MS D-74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Development and Evaluation of Eagle Books and Youth Eagle Books for American Indians and Alaska Natives (AI/ANs)—New—National Center for Chronic Disease Prevention and Health Promotion (NCCDPHP), Centers for Disease Control and Prevention (CDC).

Background and Brief Description

The development of effective diabetes prevention programs targeting AI/AN youth is a compelling priority in education and public health. AI/ANs develop type 2 diabetes at younger ages, experience more years of disease burden and have a high probability of developing diabetes-related complications. However, research shows that type 2 diabetes can be prevented or delayed with healthy foods, moderate physical activity, and social support. A number of health communication products have been developed specifically for AI/AN youth. These include the Eagle Books, the Youth Books, and the Diabetes Education in Tribal Schools (DETS) curriculum.

The Eagle Books are a series of four books that promote physical activity, eating healthy foods, learning from elders about health, and preventing type 2 diabetes. Almost 3 million copies of the Eagle Books have been distributed. The Eagle Books have been incorporated into the lesson plans for the Kindergarten (K) through fourth grades of the DETS curriculum, “Health is Life in Balance.” Led by NIH and guided by Tribal consultation, the project engaged eight Tribal Colleges and Universities, CDC, and IHS to develop culturally-grounded, scientifically sound lessons to promote awareness about diabetes and lifestyle adaptations that can help prevent type 2 diabetes. CDC is currently developing additional books for Native American youth ages nine to thirteen (the “Youth Books”).

CDC plans to conduct a descriptive evaluation of the Eagle Books and the DETS curriculum, as recommended by the Indian Health Service Tribal Leaders Diabetes Committee (TLDC), the CDC Diabetes Council (sponsored by the National Association of Chronic Disease Directors), and NDWP staff. Information will be collected using ethnographic case study methodology in selected AI/AN communities that currently use the Eagle Books as well as the DETS curriculum.

Data collection will involve discussion groups and interviews conducted during site visits to 12 American Indian communities over three years. On average, information collection will occur in four communities per year and will involve 33 respondents per community. Each site visit will consist of: (i) Interviews with up to 3 community health representatives (e.g., health department representatives, community health workers, Tribal council members, etc.); (ii) Interviews with up to 2 school administrators from a local elementary school and a middle school; (iii) One discussion (focus) group with teachers from a local elementary school and one discussion group with teachers from a local middle school; (iv) Two discussion (focus) groups with children: One group with younger children (grades K-1) and one group with older children (grades 2-4); (v) Two discussion (focus) groups with parents: One group with parents of younger children and one group with parents of older children; and (vi) Observational tours of the community.

During the site visits, respondents will be asked to provide general feedback about the Eagle Books and how the Eagle Books have affected knowledge, attitudes, and behaviors about healthy eating and physical activity. In addition, selected respondents will be asked about how the planned Youth Books could be, or have been, incorporated into or support the DETS curriculum. Community health representatives will be asked about local diabetes prevention efforts and how Eagle Books and the DETS curriculum have or could support these efforts. De-identified information will be collected and analyzed by staff from CDC's NDWP, with the assistance of a data collection contractor.

Findings will be used to enhance current and future community outreach and technical assistance efforts designed to promote sustainability of Eagle Books health messages and guide incorporation of the Youth Books into the DETS curriculum middle school lessons. Findings will also be used to identify “best practices” with regard to implementation and use of the Eagle Books and DETS, such as school and community engagement in Eagle Books and DETS, dissemination of Eagle Books and DETS health messages beyond the classroom, and policy or environmental changes made in response to Eagle Books and DETS health messages.

Participation is voluntary. There are no costs to respondents other than their time.

Estimated Annualized Burden Hours
Type of respondent | Form name | Number of respondents | Number of responses per respondent | Average burden per response (in hours) | Total burden (in hours)
Community Health Representatives | Interview Guide for Community Health Representatives | 12 | 1 | 1 | 12
Administrators | Interview Guide for Administrators Grades K-4 | 4 | 1 | 1 | 4
| Interview Guide for Administrators Grades 5-8 | 4 | 1 | 1 | 4
Teachers | Discussion Guide for Teachers Grades K-4 | 16 | 1 | 75/60 | 20
| Discussion Guide for Teachers Grades 5-8 | 16 | 1 | 75/60 | 20
Parents | Discussion Guide for Parents Grades K-4 | 48 | 1 | 1 | 48
Children | Discussion Guide for Children Grades K-1 | 16 | 1 | 45/60 | 12
| Discussion Guide for Children Grades 2-3-4 | 16 | 1 | 45/60 | 12
Total |  |  |  |  | 132

Dated: February 7, 2011.
Carol E. Walker,
Acting Reports Clearance Officer, Centers for Disease Control and Prevention.

[FR Doc. 2011-3084 Filed 2-10-11; 8:45 am]

BILLING CODE 4163-18-P